DEPARTMENT OF COMMERCE

National Oceanic and Atmospheric Administration

50 CFR Part 224

RIN 0648-XZ50

Endangered and Threatened Wildlife and Plants; 12-Month Finding and Proposed Endangered Listing of Five Species of Sawfish Under the Endangered Species Act

AGENCY: National Marine Fisheries Service (NMFS), National Oceanic and Atmospheric Administration (NOAA), Commerce.

ACTION: Proposed rule, Extension of public comment period.

SUMMARY: We, NMFS, published a proposed rule to list five sawfish species: the narrow sawfish (A. cuspidata); dwarf sawfish (P. clavata); largetooth sawfish (collectively P. pristis; formerly P. pristis, P. microdon, and P. perotteti); green sawfish (P. zijsron); and the non-listed population(s) of smalltooth sawfish P. pectinata as endangered under the ESA on 4 June 2013 (78 FR 33300). As part of the proposal we provided a 60-day public comment period, scheduled to end August 5, 2013. We received a request to extend the public comment period by 45 days. In response to this request, we are extending the public comment period for the proposed action until September 19, 2013. The proposed rule also includes a proposed change in the scientific name for largetooth sawfish to codify the taxonomic reclassification of P. perotteti to P. pristis.

DATES: Written comments and information regarding the proposed rule must be received by September 19, 2013.

ADDRESSES: You may submit comments, identified by the following document number, NOAA-NMFS-2011-0073, by any of the following methods:

• Electronic Submissions: Submit all electronic public comments via the Federal eRulemaking Portal. Go to www.regulations.gov/#!docketDetail;D=NOAA-NMFS-2011-0073, click the “Comment Now!” icon, complete the required fields, and enter or attach your comments.

• Fax: (727)-824-5309; Attn: Assistant Regional Administrator for Protected Resources.

Instructions: You must submit comments by one of the above methods to ensure that we receive, document, and consider them. Comments sent by any other method, to any other address or individual, or received after the end of the comment period may not be considered. All comments received are a part of the public record and will generally be posted for public viewing on http://www.regulations.gov without change. All personal identifying information (e.g., name, address, etc.) confidential business information, or otherwise sensitive information submitted voluntarily by the sender will be publicly accessible. We will accept anonymous comments (enter “N/A” in the required fields if you wish to remain anonymous). Attachments to electronic comments will be accepted in Microsoft Word, Excel, or Adobe PDF file formats only.

You can obtain the petition, the proposed rule, and the list of references electronically on our NMFS Web site at http://sero.nmfs.noaa.gov/pr/pr.htm.

FOR FURTHER INFORMATION CONTACT: Shelley Norton, NMFS, Southeast Regional Office, (727) 824-5312; or Dr. Dwayne Meadows, NMFS, Office of Protected Resources, (301) 427-8403.

SUPPLEMENTARY INFORMATION:

Background

On June 4, 2013, we published a proposed rule in the Federal Register (78 FR 33300) in response to a petition submitted by WildEarth Guardians requesting we list six sawfish species: knifetooth, narrow, or pointed sawfish (A. cuspidata); dwarf or Queensland sawfish (P. clavata; largetooth sawfish (P. pristis and P. microdon); green sawfish (P. zijsron); and the non-listed population(s) of smalltooth sawfish (P. pectinata) as endangered or threatened under the ESA; or alternatively to list any distinct population segments (DPS) that exist under the ESA. We proposed that the narrow sawfish (A. cuspidata); dwarf or Queensland sawfish (P. clavata); largetooth sawfish (P. pristis); green sawfish (P. zijsron); and the non-listed population(s) of smalltooth sawfish (P. pectinata) warrant listing as endangered under the ESA, and we also proposed a change in the scientific name for largetooth sawfish to codify the taxonomic reclassification of P. perotteti to P. pristis.

We subsequently received a request to extend the public comment period for an additional 45 days. We have determined that an extension of 45 days, until September 19, 2013, will allow adequate time for the public to thoroughly review and comment on the proposed rule while still providing the agency with sufficient time to meet our statutory deadlines.

Authority: 16 U.S.C. 1531 et seq.

Dated: August 1, 2013.
Donna S. Wieting,
Director, Office of Protected Resources, National Marine Fisheries Service.

[FR Doc. 2013-19091 Filed 8-6-13; 8:45 am]

BILLING CODE 3510-22-P